FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 22, 2018.

A. Federal Reserve Bank of Philadelphia (William Spaniel, Senior Vice President) 100 North 6th Street, Philadelphia, Pennsylvania 19105-1521. Comments can also be sent electronically to Comments.applications@phil.frb.org:

1. Roger L. Dirlam, Honesdale, Pennsylvania, as custodian for Marlee Brooks Dirlam, Honesdale, Pennsylvania, and Drew Benson Dirlam, Honesdale, Pennsylvania, as trustee for the Trust for Marlee Brooks Dirlam and the Trust for Drew Benson Dirlam and Dirlam Brothers Lumber Co. Inc., Honesdale, Pennsylvania, and individually; to retain voting shares of Honat Bancorp, Inc., Honesdale, Pennsylvania, and thereby indirectly acquire shares of The Honesdale National Bank, Honesdale, Pennsylvania.

Board of Governors of the Federal Reserve System, June 1, 2018.
Ann Misback,
Secretary of the Board.

[FR Doc. 2018-12132 Filed 6-5-18; 8:45 am]

BILLING CODE P